DEPARTMENT OF COMMERCE

International Trade Administration

[A-570-909]

Certain Steel Nails From the People's Republic of China: Amended Final Results of Antidumping Duty Administrative Review; 2016-2017

AGENCY: Enforcement and Compliance, International Trade Administration, Department of Commerce.

SUMMARY: On April 24, 2019, the Department of Commerce (Commerce) published in the Federal Register the final results of the administrative review of the antidumping duty (AD) order on certain steel nails from the People's Republic of China (China). Commerce is amending the final results of the administrative review to correct an unintentional ministerial error.

DATES: Applicable May 29, 2019.

FOR FURTHER INFORMATION CONTACT: Susan Pulongbarit or Benito Ballesteros, AD/CVD Operations, Office V, Enforcement and Compliance, International Trade Administration, U.S. Department of Commerce, 1401 Constitution Avenue NW, Washington, DC 20230; telephone 202-482-4031 or 202-482-7425, respectively.

SUPPLEMENTARY INFORMATION: On April 24, 2019, Commerce published in the Federal Register the final results of the administrative review of certain steel nails from China.¹ No interested party submitted ministerial allegations concerning the Final Results. Following the publication of the Final Results, Commerce identified a ministerial error in Dezhou Hualude Hardware Products Co., Ltd.'s (Dezhou Hualude) final results margin calculation program.²

¹ See Certain Steel Nails from the People's Republic of China: Final Results of Antidumping Duty Administrative Review, and Final Determination of No Shipments; 2016-2017, 84 FR 17134 (April 24, 2019) (Final Results) and accompanying Issues and Decision Memorandum (IDM).

² See Memorandum, “Administrative Review Certain Steel Nails from the People's Republic of China; 2016-2017: Ministerial Error Memorandum,” dated concurrently with this notice (Ministerial Error Memorandum).

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and, if appropriate, correct any ministerial error by amending the final results of review . . . .” Even when interested parties do not submit ministerial error comments, Commerce has the authority to self-correct ministerial errors provided the self-correction occurs within the statutory timeline for judicial review.⁴

³ See also 19 CFR 351.224(f).

⁴ See American Signature, Inc. v. United States, 598 F.3d 816, 826-28 (Fed. Cir. 2010).

Ministerial Errors

In the Final Results, we stated our intention to adjust U.S. price in the margin programming for Dezhou Hualude's international freight and marine insurance expenses.⁵ However, following the Final Results, we observed that the SAS code input into the program inadvertently caused the program to create missing values for the international freight expenses pertaining to sales to certain importers, which in turn removed those sales from the program and failed to generate importer-specific liquidation rates for those importers. Modifying the final margin program to fix these missing values will properly include the sales in the program and generate the proper importer-specific liquidation rates. Accordingly, we have determined, in accordance with section 751(h) of the Act and 19 CFR 351.224(f), that an unintentional ministerial error was made in the Final Results. For a detailed discussion of this ministerial error, as well as Commerce's analysis, see Ministerial Error Memorandum.

⁵ See Final Results and accompany IDM at 26.

Amended Final Results

In accordance with section 751(h) of the Act and 19 CFR 351.224(e), we are amending the Final Results of this administrative review of nails from China. For the amended final results, Commerce has recalculated the weighted-average margin for Dezhou Hualude. Commerce has also updated the sample rate assigned to the non-selected companies, which is based on an average of the rates of the three mandatory respondents, The Stanley Works (Langfang) Fastening Systems Co., Ltd. and Stanley Black & Decker, Inc. (collectively, Stanley), Dezhou Hualude, and Shandong Dinglong Import & Export Co., Ltd. (Shandong Dinglong), as discussed in the Ministerial Error Memorandum. The revised weighted-average dumping margins for the administrative review are as follows:

Exporter | Weighted- average margin (percent)
Dezhou Hualude Hardware Products Co., Ltd | 69.99
Shandong Dinglong Import & Export Co., Ltd ⁶ | 118.04
The Stanley Works (Langfang) Fastening Systems Co., Ltd. and Stanley Black & Decker, Inc. (collectively, Stanley) ⁷ | 3.94
Hebei Canzhou New Century Foreign Trade Co., Ltd | 43.26
Mingguang Ruifeng Hardware Products Co., Ltd | 43.26
Qingdao D&L Group Ltd | 43.26
SDC International Australia Pty. Ltd | 43.26
Shandong Oriental Cherry Hardware Group Co., Ltd | 43.26
Shanghai Curvet Hardware Products Co., Ltd | 43.26
Shanghai Yueda Nails Industry Co., Ltd. a.k.a. Shanghai Yueda Nails Co., Ltd | 43.26
Shanxi Hairui Trade Co., Ltd | 43.26
Shanxi Pioneer Hardware Industrial Co., Ltd | 43.26
Shanxi Tianli Industries Co., Ltd | 43.26
S-Mart (Tianjin) Technology Development Co., Ltd | 43.26
Suntec Industries Co., Ltd | 43.26
Tianjin Huixinshangmao Co., Ltd | 43.26
Tianjin Jinchi Metal Products Co., Ltd | 43.26
Tianjin Jinghai County Hongli Industry & Business Co., Ltd | 43.26
Tianjin Universal Machinery Imp. & Exp. Corporation | 43.26
Tianjin Zhonglian Metals Ware Co., Ltd | 43.26
Xi'an Metals & Minerals Import & Export Co., Ltd | 43.26
Zhangjiagang Lianfeng Metals Products Co., Ltd | 43.26

Disclosure

⁶ There are no changes to the dumping margin for Shandong Dinglong.

⁷ There are no changes to the dumping margin for Stanley.

We intend to disclose the calculations performed for these amended final results of review within five days of the date of publication of this notice in the Federal Register, in accordance with 19 CFR 351.224(b).

Assessment Rates

Commerce shall determine, and U.S. Customs Border Protection (CBP) shall assess antidumping duties on all appropriate entries covered by this review pursuant to section 751(a)(2)(A) of the Act and 19 CFR 351.212(b).

Where the respondent reported reliable entered values, we calculated importer- (or customer-) specific ad valorem rates by aggregating the dumping margins calculated for all U.S. sales to each importer (or customer) and dividing this amount by the total entered value of the sales to each importer (or customer).⁸ Where Commerce calculated a weighted-average dumping margin by dividing the total amount of dumping for reviewed sales to that party by the total sales quantity associated with those transactions, Commerce will direct CBP to assess importer-specific assessment rates based on the resulting per-unit rates.⁹ Where an importer- (or customer-) specific ad valorem or per-unit rate is greater than de minimis (i.e., 0.50 percent), Commerce will instruct CBP to collect the appropriate duties at the time of liquidation.¹⁰ Where an importer- (or customer-) specific ad valorem or per-unit rate is zero or de minimis, Commerce will instruct CBP to liquidate appropriate entries without regard to antidumping duties.¹¹ We intend to instruct CBP to liquidate entries containing subject merchandise exported by the China-wide entity at the China-wide rate.

⁸ See 19 CFR 351.212(b)(1).

⁹ Id.

¹⁰ Id.

¹¹ See 19 CFR 351.106(c)(2).

Pursuant to Commerce's assessment practice, for entries that were not reported in the U.S. sales databases submitted by companies individually examined during this review, Commerce will instruct CBP to liquidate such entries at the China-wide entity rate. Additionally, if Commerce determines that an exporter had no shipments of the subject merchandise, any suspended entries that entered under that exporter's case number (i.e., at that exporter's rate) will be liquidated at the China-wide entity rate.¹²

¹² See Non-Market Economy Antidumping Proceedings: Assessment of Antidumping Duties, 76 FR 65694 (October 24, 2011).

Cash Deposit Requirements

The following cash deposit requirements will be effective retroactively on any entries made on or after April 24, 2019, the date of publication of the Final Results, for all shipments of the subject merchandise entered, or withdrawn from warehouse, for consumption on or after the publication date, as provided for by section 751(a)(2)(C) of the Act: (1) For the exporters listed above, the cash deposit rate will be the rate established in the “Amended Final Results” section (except, if the rate is zero or de minimis, a zero cash deposit rate will be required for that company); (2) for previously investigated or reviewed China and non-China exporters not listed above that have separate rates, the cash deposit rate will continue to be the exporter-specific rate published for the most recent period; (3) for all China exporters of subject merchandise which have not been found to be entitled to a separate rate, the cash deposit rate will be the China-wide rate of 118.04 percent; and (4) for all non-China exporters of subject merchandise which have not received their own rate, the cash deposit rate will be the rate applicable to the China exporters that supplied that non-China exporter. The deposit requirements, when imposed, shall remain in effect until further notice.

Notification to Importers

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

These amended final results and notice are issued and published in accordance with sections 751(h) and 777(i) of the Act and 19 CFR 351.224(e).

Dated: May 22, 2019.
Christian Marsh,
Deputy Assistant Secretary for Enforcement and Compliance.

[FR Doc. 2019-11126 Filed 5-28-19; 8:45 am]

BILLING CODE 3510-DS-P